NATIONAL AERONAUTICS AND SPACE ADMINISTRATION

[Notice (18-007)]

Earth Science Advisory Committee; Meeting

AGENCY: National Aeronautics and Space Administration.

ACTION: Notice of meeting.

SUMMARY: In accordance with the Federal Advisory Committee Act, as amended, the National Aeronautics and Space Administration (NASA) announces a meeting of the Earth Science Advisory Committee (ESAC). This Committee functions in an advisory capacity to the Director, Earth Science Division, in the NASA Science Mission Directorate. The meeting will be held for the purpose of soliciting, from the scientific community and other persons, scientific and technical information relevant to program planning.

DATES: Wednesday, March 14, 2018, 8:30 a.m. to 5:00 p.m., and Thursday, March 15, 2018, 8:30 a.m. to 3:00 p.m., Local Time.

ADDRESSES: NASA Headquarters, Room 3H42, 300 E Street SW, Washington, DC 20546.

FOR FURTHER INFORMATION CONTACT: KarShelia Henderson, Science Mission Directorate, NASA Headquarters, Washington, DC 20546, (202) 358-2355, fax (202) 358-2779, or khenderson@nasa.gov.

SUPPLEMENTARY INFORMATION: The meeting will be open to the public up to the capacity of the meeting room. This meeting is also available telephonically and by WebEx. You must use a touch-tone phone to participate in this meeting. Any interested person may dial the USA toll free number 1-800-369-2007 or toll number 1-415-228-4743, passcode 6340871 for both days. The WebEx link is https://nasa.webex.com/; the meeting number is 991 297 021, password is 5PxUTjc@(case sensitive) for both days. The agenda for the meeting includes the following topics:

—Earth Science Division (ESD) Update

—Earth Science Decadal Survey

—ESD Approaches for International Coordination

—Evolution of the ESD Airborne Science Program

—Ensuring High Impact Research in ESD

Attendees will be requested to sign a register and to comply with NASA Headquarters security requirements, including the presentation of a valid picture ID to Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees with U.S. citizens and Permanent Residents (green card holders) are requested to provide full name and citizenship status no less than 3 working days in advance by contacting KarShelia Henderson via email at khenderson@nasa.gov or by fax at (202) 358-2779. It is imperative that the meeting be held on this date to accommodate the scheduling priorities of the key participants.

Patricia D. Rausch,
Advisory Committee Management Officer, National Aeronautics and Space Administration.

[FR Doc. 2018-02653 Filed 2-8-18; 8:45 am]

BILLING CODE 7510-13-P